DEPARTMENT OF ENERGY

Federal Energy Regulatory Commission

Combined Notice of Filings #1

Take notice that the Commission received the following electric rate filings:

Docket Numbers: ER10-1818-022; ER10-1817-021.

Applicants: Southwestern Public Service Company, Public Service Company of Colorado.

Description: Notice of Change in Status of Public Service Company of Colorado, et al.

Filed Date: 9/25/20.

Accession Number: 20200925-5168.

Comments Due: 5 p.m. ET 10/16/20.

Docket Numbers: ER19-106-003.

Applicants: Birdsboro Power LLC.

Description: Notice of Non-Material Change in Status of Birdsboro Power LLC.

Filed Date: 9/28/20.

Accession Number: 20200928-5075.

Comments Due: 5 p.m. ET 10/19/20.

Docket Numbers: ER19-1074-006; ER11-3942-024; ER19-1075-006; ER19-529-006; ER12-645-023; ER20-1806-001.

Applicants: Brookfield Energy Marketing Inc., Brookfield Energy Marketing LP, Brookfield Renewable Energy Marketing US, Brookfield Renewable Trading and Marketing, California Ridge Wind Energy LLC, Catalyst Old River Hydroelectric Limited.

Description: Notice of Non-Material Change in Status of Brookfield Energy Marketing Inc., et. al.

Filed Date: 9/25/20.

Accession Number: 20200925-5199.

Comments Due: 5 p.m. ET 10/16/20.

Docket Numbers: ER20-1537-001; ER20-1538-001.

Applicants: RE Mustang Two Whirlaway LLC, RE Mustang Two Barbaro LLC.

Description: Notice of Non-Material Change in Status of RE Mustang Two Barbaro LLC, et al.

Filed Date: 9/25/20.

Accession Number: 20200925-5179.

Comments Due: 5 p.m. ET 10/16/20.

Docket Numbers: ER20-2771-000.

Applicants: Guzman Western Slope LLC.

Description: Supplement to August 28, 2020 Guzman Western Slope LLC tariff filing.

Filed Date: 9/25/20.

Accession Number: 20200925-5172.

Comments Due: 5 p.m. ET 10/5/20.

Docket Numbers: ER20-3000-000.

Applicants: New York Independent System Operator, Inc., Niagara Mohawk Power Corporation.

Description: § 205(d) Rate Filing: Joint NYISO and NMPC 205 filing re: SA 2556 Darby Solar to be effective 9/17/2020.

Filed Date: 9/28/20.

Accession Number: 20200928-5005.

Comments Due: 5 p.m. ET 10/19/20.

Docket Numbers: ER20-3001-000.

Applicants: New York Independent System Operator, Inc., Niagara Mohawk Power Corporation.

Description: § 205(d) Rate Filing: SGIA (SA 2557) among NYISO, NMPC and Branscomb Solar, LLC to be effective 9/17/2020.

Filed Date: 9/28/20.

Accession Number: 20200928-5006.

Comments Due: 5 p.m. ET 10/19/20.

Docket Numbers: ER20-3004-000.

Applicants: Hardin Solar Holdings LLC.

Description: § 205(d) Rate Filing: Revised Market-Based Rate Tariff Filing to be effective 11/28/2020.

Filed Date: 9/28/20.

Accession Number: 20200928-5018.

Comments Due: 5 p.m. ET 10/19/20.

Docket Numbers: ER20-3005-000.

Applicants: Grand Ridge Energy IV LLC.

Description: Tariff Cancellation: Administrative Cancellation of eTariff Record to be effective 11/28/2020.

Filed Date: 9/28/20.

Accession Number: 20200928-5019.

Comments Due: 5 p.m. ET 10/19/20.

Docket Numbers: ER20-3006-000.

Applicants: Grand Ridge Energy V LLC.

Description: Tariff Cancellation: Administrative Cancellation of eTariff Record to be effective 11/28/2020.

Filed Date: 9/28/20.

Accession Number: 20200928-5025.

Comments Due: 5 p.m. ET 10/19/20.

Docket Numbers: ER20-3007-000.

Applicants: PJM Interconnection, L.L.C.

Description: § 205(d) Rate Filing: Original ISA, Service Agreement No. 5763; Queue No. AD1-033 to be effective 9/1/2020.

Filed Date: 9/28/20.

Accession Number: 20200928-5031.

Comments Due: 5 p.m. ET 10/19/20.

Docket Numbers: ER20-3008-000.

Applicants: Southwest Power Pool, Inc.

Description: § 205(d) Rate Filing: Revisions to Modify Schedule 1-A and Formula Rate Template to be effective 1/1/2021.

Filed Date: 9/28/20.

Accession Number: 20200928-5051.

Comments Due: 5 p.m. ET 10/19/20.

Docket Numbers: ER20-3009-000.

Applicants: GridLiance Heartland LLC.

Description: Compliance filing: GLH Order No. 864 Compliance Filing to be effective 11/1/2020.

Filed Date: 9/28/20.

Accession Number: 20200928-5074.

Comments Due: 5 p.m. ET 10/19/20.

Docket Numbers: ER20-3010-000.

Applicants: AEP Texas Inc.

Description: § 205(d) Rate Filing: AEPTX-Taylor EC-Golden Spread EC 6th A&R Interconnection Agreement to be effective 9/21/2020.

Filed Date: 9/28/20.

Accession Number: 20200928-5077.

Comments Due: 5 p.m. ET 10/19/20.

Docket Numbers: ER20-3011-000.

Applicants: PJM Interconnection, L.L.C.

Description: § 205(d) Rate Filing: Original ISA, Service Agreement No. 5757; Queue No. AC1-161 to be effective 8/28/2020.

Filed Date: 9/28/20.

Accession Number: 20200928-5094.

Comments Due: 5 p.m. ET 10/19/20.

Docket Numbers: ER20-3012-000.

Applicants: GridLiance Heartland LLC.

Description: Compliance filing: ER19-2092 Order 845 Compliance Filing to be effective 11/1/2020.

Filed Date: 9/28/20.

Accession Number: 20200928-5109.

Comments Due: 5 p.m. ET 10/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2020.
Nathaniel J. Davis, Sr.,
Deputy Secretary.

[FR Doc. 2020-21830 Filed 10-1-20; 8:45 am]

BILLING CODE 6717-01-P